DEPARTMENT OF THE INTERIOR

Fish and Wildlife Service

[FWS-R6-R-2016-N045; FXRS12610600000-167-FF06R00000]

Upper Great Plains Wind Energy Programmatic Environmental Impact Statement; Record of Decision

AGENCY: Fish and Wildlife Service, Interior.

ACTION: Notice of availability.

SUMMARY: The U.S. Fish and Wildlife Service (Service) and the Western Area Power Administration (Western), as joint lead agencies, issued the Upper Great Plains Wind Energy Final Programmatic Environmental Impact Statement (Final PEIS) on May 1, 2015. The Service has decided to implement Alternative 1, as described in the Final PEIS and summarized in the Record of Decision (ROD). Alternative 1 was identified as both the agency-preferred alternative and the environmentally preferred alternative.

ADDRESSES: You may request copies of the Final PEIS and ROD, or more information, by one of the following methods.

Web site: http://plainswindeis.anl.gov/.

U.S. Mail: Kelly Hogan, U.S. Fish and Wildlife Service, Region 6, P.O. Box 25486, Denver, CO 80225-0486.

To view comments on the final PEIS from the Environmental Protection Agency (EPA), or for information on EPA's role in the EIS process, see EPA's Role in the EIS Process under SUPPLEMENTARY INFORMATION.

FOR FURTHER INFORMATION CONTACT: Kelly Hogan, 303-236-4355 (phone) or Kelly_Hogan@fws.gov (email).

SUPPLEMENTARY INFORMATION:

Background

The Record of Decision (ROD) we announce today documents the U.S. Fish and Wildlife Service's (Service) decision to implement the Programmatic Regional Wind Energy Development Evaluation Process (Alternative 1) of the Upper Great Plains Wind Energy Final Programmatic Environmental Impact Statement (Final PEIS) (DOE/EIS-0408), published in the Federal Register on May 1, 2015 (80 FR 24914).

In response to an increase in wind energy development in the Upper Great Plains Region (UGP Region), which encompasses all or parts of the States of Iowa, Minnesota, Montana, Nebraska, North Dakota, and South Dakota, the Service (Service) and the Western Area Power Administration (Western) have prepared the Upper Great Plains Wind Energy Final PEIS to streamline their procedures for conducting environmental reviews of wind energy applications by implementing standardized evaluation procedures and identifying measures to address potential environmental impacts associated with wind energy projects in the UGP Region.

The Service and Western cooperatively prepared the PEIS to (1) assess the potential environmental impacts associated with wind energy projects within the UGP Region that may propose placement of project elements on grassland or wetland easements managed by the Service, or that may interconnect to Western's transmission system, and (2) evaluate how environmental impacts would differ under alternative sets of environmental evaluation procedures, best management practices, avoidance strategies, and mitigation measures that the agencies would request project developers to implement, as appropriate, for specific wind energy projects. Four alternatives, including the No Action alternative, were analyzed in the PEIS.

The PEIS analyzes, to the extent practicable, the impacts resulting from development of wind energy projects and the effectiveness of best management practices (BMPs), avoidance of sensitive areas, and mitigation measures in reducing potential impacts. Impacts and mitigation have been analyzed for each environmental resource, and all components of wind energy projects have been addressed, including turbines, transformers, collector lines, overhead lines, access roads, substation installations, and operational and maintenance activities. Many of the impacts resulting from constructing and operating these types of wind energy infrastructure are well known from existing wind energy projects.

In addition to the PEIS, the Service and Western engaged in informal consultation under Section 7 of the ESA in support of the PEIS process. A programmatic biological assessment (Programmatic BA) has been prepared for listed and candidate species occurring in the UGP Region. Development of the Programmatic BA was closely coordinated with the Service's North Dakota Ecological Services Field Office. That office issued a letter of concurrence with the Programmatic BA on July 7, 2015, as a result of this consultation.

The agencies also investigated a programmatic approach to section 106 consultations under the National Historic Preservation Act (NHPA) (54 U.S.C. 300101 et seq.). Since section 106 consultations are highly site-specific, it was determined that effective consultation could be accomplished only once an individual project location was defined. However, general avoidance and protection measures for cultural resources and historic properties that would be implemented were identified and included in the analysis.

EPA's Role in the EIS Process

The EPA is charged under section 309 of the Clean Air Act to review all Federal agencies' environmental impact statements (EISs) and to comment on the adequacy and the acceptability of the environmental impacts of proposed actions in the EISs.

EPA also serves as the repository (EIS database) for EISs prepared by Federal agencies and provides notice of their availability in the Federal Register. The EIS Database provides information about EISs prepared by Federal agencies, as well as EPA's comments concerning the EISs. All EISs are filed with EPA, which publishes a notice of availability each Friday in the Federal Register. For more information, see http://www.epa.gov/compliance/nepa/eisdata.html. You may search for EPA comments on EISs, along with EISs themselves, at https://cdxnodengn.epa.gov/cdx-enepa-public/action/eis/search.

Purpose and Need

The Service's purpose and need for Federal action, as presented in the Draft and Final PEIS, is to streamline the environmental review process for wind energy projects that would unavoidably impact grassland or wetland easements administered by the Service and would therefore require an easement exchange to accommodate wind energy development.

Alternatives

Four alternatives, including the No Action Alternative, were analyzed in the PEIS and are briefly described below. More detailed information on the alternatives may be found in the Final PEIS, which can be accessed from the Web site provided above.

No Action Alternative

Under the No Action Alternative, the Service would continue to consider requests for easement exchanges to accommodate wind energy project requests under the procedures currently used to evaluate and address the environmental impacts associated with wind energy projects. Requests would be processed, reviewed, and evaluated on a case-by-case basis, including separate NEPA, section 7, and section 106 reviews performed for each specific project.

Alternative 1 (Preferred Alternative)—Programmatic Regional Wind Energy Development Evaluation Process for Western and the Service

The Service has decided to adopt a Programmatic Regional Wind Energy Development Process to address requests for Service easement exchanges to accommodate wind energy development. Under Alternative 1, the Service will adopt a standardized structured process for collecting information and evaluating and reviewing environmental impacts of wind energy requests. Best management practices and mitigation measures developed in the PEIS programmatic process would be employed to minimize the potential environmental impacts of wind energy projects. Project-specific NEPA analyses, either environmental assessments (EAs) or streamlined EISs, would tier off (eliminate repetitive discussions of the same issues) the analyses in the Final PEIS as long as the appropriate identified conservation measures were implemented as part of proposed projects. In accordance with 40 CFR 1502.20, these project-specific NEPA documents would summarize the information and issues covered in the Final PEIS or incorporate relevant discussions by reference. This approach would allow for more efficient NEPA documents that would properly focus on local or site-specific issues. The decision to pursue a tiered EA or EIS would be made similar to any other proposal. If the potential for new significant impacts appeared low, then an EA process could be initiated, with the understanding that the identification of any potentially new significant impact would require transition to an EIS process. It is anticipated that the tiered NEPA document in most instances will be an EA. If there appeared to be a potential for new significant environmental impacts, based on the project description and site location, then a tiered EIS process would be initiated.

Project-specific ESA Section 7 consultations would utilize the Programmatic BA so long as the applicable best management practices, minimization measures, mitigation measures, and monitoring requirements established in the Programmatic BA were implemented. Project proponents who could not agree to the requirements in the Programmatic BA would be required to conduct a separate ESA Section 7 consultation with the Service. NHPA section 106 and related tribal consultation would continue unchanged from the present practices; since cultural resources issues are very site specific, it was not possible to address them programmatically beyond including general avoidance and protection measures and committing to the established processes and procedures. The primary objective of Alternative 1 was to collect relevant natural resources information; evaluate the typical impacts of wind energy projects and associated facilities on those resources; identify effective best management practices, minimization measures, and mitigation measures that could reduce impacts; provide information about areas that would be more sensitive to development impacts and encourage avoidance of siting projects in these areas; and have all this material available to support site-specific tiered environmental reviews. The parallel Programmatic BA would similarly expedite the ESA section 7 consultation by having previously established minimization measures, mitigation measures, and monitoring requirements, by species, that if committed to and implemented would constitute compliance with ESA section 7 without a separate consultation.

Alternative 2: Programmatic Regional Wind Energy Development Evaluation Process for Western and No Wind Energy Development Allowed on USFWS Easements

Alternative 2 would not allow easement exchanges to accommodate wind energy facilities.

Alternative 3: Regional Wind Energy Development Evaluation Process for Western and the USFWS, With No Programmatic Requirements

In essence, Alternative 3 is a minimalist approach that would incorporate all mandated environmental review requirements, but would not extend beyond them. Easement exchanges would occur for wind energy projects as presented by developers without consideration of best management practice and other issues to limit environmental impacts.

Decision

The Service has determined that Alternative 1, the agency-preferred alternative, best meets the agency's needs. Alternative 1 is also the environmentally preferred alternative, and would afford the greatest protection for environmental resources that would be impacted by future wind energy projects. Therefore, it is the Service's decision to implement Alternative 1, and use the program defined by that alternative for all applicable future wind energy project affecting Service easements in the UGP Region. This decision is based on the information contained in the Upper Great Plains Wind Energy Final PEIS. The ROD was prepared pursuant to the requirements of the CEQ regulations for implementing NEPA at 42 U.S.C. 1505.2 and the Department of the Interior's implementing regulations in part 46 of title 43 of the Code of Federal Regulations (43 CFR 46.205, 46.210, and 46.215).

Matt Hogan,
Deputy Regional Director, Mountain-Prairie Region, U.S. Fish and Wildlife Service.

[FR Doc. 2016-16078 Filed 7-6-16; 8:45 am]

BILLING CODE 4333-15-P